DEPARTMENT OF AGRICULTURE

Animal and Plant Health Inspection Service

[Docket No. 05-077-1]

Notice of Request for Approval of an Information Collection; National Animal Identification System; Cooperative Agreements for Field Trials and Research Projects

AGENCY: Animal and Plant Health Inspection Service, USDA.

ACTION: New information collection; comment request.

SUMMARY: In accordance with the Paperwork Reduction Act of 1995, this notice announces the Animal and Plant Health Inspection Service's intention to request approval of a new information collection activity associated with a national animal identification system.

DATES: We will consider all comments that we receive on or before December 27, 2005.

ADDRESSES: You may submit comments by either of the following methods:

• Federal eRulemaking Portal: Go to http://www.regulations.gov and, in the “Search for Open Regulations” box, select “Animal and Plant Health Inspection Service” from the agency drop-down menu, then click on “Submit.” In the Docket ID column, select APHIS-2005-0093 to submit or view public comments and to view supporting and related materials available electronically. After the close of the comment period, the docket can be viewed using the “Advanced Search” function in Regulations.gov.

• Postal Mail/Commercial Delivery: Please send four copies of your comment (an original and three copies) to Docket No. 05-077-1, Regulatory Analysis and Development, PPD, APHIS, Station 3C71, 4700 River Road Unit 118, Riverdale, MD 20737-1238. Please state that your comment refers to Docket No. 05-077-1.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the national animal identification system, contact Mr. Neil Hammerschmidt, Animal Identification Coordinator, Surveillance and Identification Programs, VS, APHIS, 4700 River Road Unit 200, Riverdale, MD 20737. For copies of more detailed information on the information collection, contact Mrs. Celeste Sickles, APHIS' Information Collection Coordinator, at (301) 734-7477.

SUPPLEMENTARY INFORMATION: Title: National Animal Identification System; Cooperative Agreements for Field Trials and Research Projects.

OMB Number: 0579-XXXX.

Type of Request: Approval of a new information collection.

Abstract: The Animal and Plant Health Inspection Service (APHIS) of the U.S. Department of Agriculture (USDA) regulates the importation and interstate movement of animals and animal products and conducts various other activities to protect the health of our Nation's livestock and poultry.

Fundamental to controlling any disease threat, foreign or domestic, to the Nation's animal resources is to have a system that can identify individual animals or groups, the premises where they are located, and the date of entry to each premises.

USDA initiated implementation of a national animal identification system (NAIS) in 2004. The goal of the NAIS is to be able to identify all animals and premises that have had contact with a foreign or domestic animal disease of concern within 48 hours after discovery. As an information system that provides for rapid tracing of infected and exposed animals during an outbreak situation, the NAIS will help limit the scope of such outbreaks and ensure that they are contained and eradicated as quickly as possible. USDA's first priority was to facilitate premises registration. Producers, nationwide, now have the opportunity to register their premises. The next step is to register a majority of eligible premises in each State. With the foundation of premises identification in place, the identification of individual animals and the recording of their premises-to-premises movements can occur.

The 48-hour traceback goal is contingent upon the completeness of the animal movement data. Producers, market operators, abattoirs, and other establishments where animals are held will collect the animal identification numbers (AINs) or group lot identification numbers as the animals arrive at their premises and submit the data to the appropriate privately-held animal tracking database. The collection of complete animal movement information is an important goal for achieving 48-hour traceback.

USDA plans to provide funding to State and tribal governments to support field trials and research projects that address problems or questions concerning NAIS implementation. USDA anticipates funding approximately 15 projects based on applications from State and tribal governments.

We are asking the Office of Management and Budget (OMB) to approve our use of these information collection activities for 1 year.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 40 hours per response.

Respondents: State and federally recognized tribal governments.

Estimated annual number of respondents: 35.

Estimated annual number of responses per respondent: 1.

Estimated annual number of responses: 35.

Estimated total annual burden on respondents: 1,400 hours. (Due to averaging, the total annual burden hours may not equal the product of the annual number of responses multiplied by the reporting burden per response.)

All responses to this notice will be summarized and included in the request for OMB approval. All comments will also become a matter of public record.

Done in Washington, DC, this 21st day of October 2005.
Elizabeth E. Gaston,
Acting Administrator, Animal and Plant Health Inspection Service.

[FR Doc. E5-5962 Filed 10-26-05; 8:45 am]

BILLING CODE 3410-34-P